DEPARTMENT OF ENERGY

Federal Energy Regulatory Commission

Notice of Filings

February 6, 2009.

Take notice that the Commission received the following electric rate filings:

Docket Numbers: ER01-2508-005.

Applicants: ENMAX Energy Marketing, Inc.

Description: ENMAX Energy Marketing Inc submits notice of change in status.

Filed Date: 02/02/2009.

Accession Number: 20090204-0086.

Comment Date: 5 p.m. Eastern Time on Monday, February 23, 2009.

Docket Numbers: ER02-537-018.

Applicants: Shady Hills Power Company, L.L.C.

Description: GE Companies submits a supplement to their 7/28/08 filing of a Notice of Change in Status.

Filed Date: 02/04/2009.

Accession Number: 20090206-0281.

Comment Date: 5 p.m. Eastern Time on Wednesday, February 25, 2009.

Docket Numbers: ER06-738-016; ER06-739-016; ER03-983-013; ER07-501-014; ER02-537-018; ER07-758-010; ER08-649-008.

Applicants: Cogen Technologies Linden Venture, L.P.; East Coast Power Linden Holding, LLC; Fox Energy Co. LLC; Birchwood Power Partners, L.P.; Shady Hills Power Company, L.L.C.; Inland Empire Energy Center L.L.C.; EFS Parlin Holdings, LLC.

Description: GE Companies submits a supplement to their 7/28/08 filing of a Notice of Change in Status.

Filed Date: 02/04/2009.

Accession Number: 20090206-0281.

Comment Date: 5 p.m. Eastern Time on Tuesday, February 17, 2009.

Docket Numbers: ER07-650-001.

Applicants: Integrys Energy Services, Inc.

Description: Integrys Energy Services, Inc submits an amendment to request for Category 1 Seller status in the Southwest Power Pool Region and on December 23, 2008, submitted a request for Category 1 Seller classification for the Southeast Region.

Filed Date: 02/03/2009.

Accession Number: 20090205-0273.

Comment Date: 5 p.m. Eastern Time on Tuesday, February 24, 2009.

Docket Numbers: ER07-1136-001.

Applicants: Camp Grove Wind Farm LLC.

Description: Camp Grove Wind Farm LLC submits revised sheets to its market-based rate tariff for Order 697.

Filed Date: 01/30/2009.

Accession Number: 20090203-0151.

Comment Date: 5 p.m. Eastern Time on Friday, February 20, 2009.

Docket Numbers: ER09-573-000; ER09-91-001.

Applicants: Midwest Independent Transmission System Operator, Inc

Description: Midwest ISO submits revised Sheet 1883 et al. to FERC Electric Tariff, Third Revised Volume 1.

Filed Date: 01/15/2009.

Accession Number: 20090127-0315.

Comment Date: 5 p.m. Eastern Time on Tuesday, February 17, 2009.

Docket Numbers: ER09-646-000.

Applicants: Florida Power Corporation.

Description: Florida Power Corporation submits for filing Transmission Service Agreement with The Energy Authority.

Filed Date: 02/02/2009.

Accession Number: 20090203-0258.

Comment Date: 5 p.m. Eastern Time on Monday, February 23, 2009.

Docket Numbers: ER09-647-000.

Applicants: Orange and Rockland Utilities, Inc.

Description: Orange and Rockland Utilities, Inc submit notice of cancellation for multiple power sales Service Agreements executed pursuant to Orange and Rockland's FERC Electric Tariff, Second Revised Volume 4.

Filed Date: 02/02/2009.

Accession Number: 20090203-0256.

Comment Date: 5 p.m. Eastern Time on Monday, February 23, 2009.

Docket Numbers: ER09-648-000.

Applicants: Orange and Rockland Utilities, Inc.

Description: Orange and Rockland Utilities, Inc submits notices of cancellation for multiple rate schedules that provided for wholesale power sales and transmission service subject to the Commission's jurisdiction.

Filed Date: 02/02/2009.

Accession Number: 20090203-0259.

Comment Date: 5 p.m. Eastern Time on Monday, February 23, 2009.

Docket Numbers: ER09-652-000.

Applicants: Connecticut Light & Power Company.

Description: Northeast Utilities Service Company submits the Joint Request for Expedited Consideration and Limited Waiver of Demand Resource Qualification Deposit Payment Deadline etc.

Filed Date: 01/30/2009.

Accession Number: 20090203-0257.

Comment Date: 5 p.m. Eastern Time on Friday, February 20, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-6947 Filed 3-27-09; 8:45 am]

BILLING CODE 6717-01-P